DEPARTMENT OF AGRICULTURE

Food and Nutrition Service

Agency Information Collection Activities: Proposed Collection; Comment Request—WIC Breastfeeding Peer Counseling Study

AGENCY: Food and Nutrition Service, USDA.

ACTION: Notice.

SUMMARY: In accordance with the Paperwork Reduction Act of 1995, this notice invites the general public and other public agencies to comment on the proposed collection of data for the WIC Breastfeeding Peer Counseling Study. This study will assess the implementation of the Loving Support peer counseling program in State and local WIC agencies across the country.

DATES: Written comments must be received on or before November 20, 2007.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Steven Carlson, Director, Office of Analysis, Nutrition and Evaluation, Food and Nutrition Service, U.S. Department of Agriculture, 3101 Park Center Drive, Room 1014, Alexandria, VA 22302. Comments may also be submitted via fax to the attention of Steven Carlson at 703-305-2576 or via email to Steve.Carlson@fns.usda.gov.

All written comments will be open for public inspection at the office of the Food and Nutrition Service during regular business hours (8:30 a.m. to 5 p.m., Monday through Friday) at Room 1014, 3101 Park Center Drive, Alexandria, Virginia 22302.

All responses to this notice will be summarized and included in the request for OMB approval. All comments will be a matter of public record.

FOR FURTHER INFORMATION CONTACT: Requests for additional information or copies of this information collection should be directed to Steven Carlson at 703-305-2017.

SUPPLEMENTARY INFORMATION:

Title: WIC Breastfeeding Peer Counseling Study.

OMB Number: Not yet assigned.

Form Number: N/A.

Expiration Date: Not yet determined.

Type of Request: New collection of information.

Abstract: Beginning in Fiscal Year 2004 and continuing through to the present, Congress appropriated about $15 million per year for States to support breastfeeding peer counseling in the Special Supplemental Nutrition Program for Women, Infants and Children (WIC). Prior research has suggested that peer counseling may increase breastfeeding duration rates, and is associated with positive outcomes in minority groups that have proven difficult for WIC to support in the initiation and continuation of breastfeeding. A primary objective of the WIC Breastfeeding Peer Counseling Study is to assess the implementation of the Loving Support peer counseling program, specifically developed for WIC, in the 86 States and Indian Tribal Organizations that have accepted peer counseling funds, and in a sample of 40 local WIC agencies and organizations that collaborate with these agencies, and in 20 local WIC clinics.

Affected Public: Multiple respondents may be required to complete each data collection instrument. At the State level, respondents include State WIC directors, State WIC breastfeeding and peer counseling coordinators, and State budget officers. At the local level, respondents will include staff at the local WIC agency, including the local WIC director, local breastfeeding and peer counselor coordinators, budget officer, peer counselors, and the person that manages the local WIC agency database; local WIC clinic director or supervisor, local WIC clinic peer counseling coordinator or supervisor, and peer counselors; and the contact person for an agency or organization that collaborates on the local WIC Loving Support peer counseling program.

Estimated Number of Respondents: 618 total. This includes directors of 86 State WIC agencies who will complete a web-based survey, likely with the aid of 86 State breastfeeding or peer counseling coordinators and 86 State WIC budget officers. Interviews at the local WIC agency will include 40 local WIC directors, 40 local WIC breastfeeding or peer counselor coordinators, 40 local WIC budget officers, 40 local WIC agency database managers; and an average of two peer counselors per local WIC agency (80 peer counselors). Forty individuals representing organizations that collaborate with local WIC agencies (e.g., hospitals) will also be interviewed. Interviews at 20 local clinics will be held with 20 local WIC clinic directors or supervisors, 20 local WIC clinic peer counselor coordinators or supervisors, and an average of two peer counselors per local WIC clinic (40 peer counselors).

Estimated Time per Response
Respondent | Number | Number of responses per respondent | Minutes | Total minutes
State WIC Director | 86 | 1 | 60 | 5,160
State Breastfeeding or Peer Counselor Coordinator | 86 | 1 | 60 | 5,160
State budget officer | 86 | 1 | 30 | 2,580
Local WIC Agency Director | 40 | 1 | 60 | 2,400
Local WIC Breastfeeding or Peer Counselor Coordinator | 40 | 1 | 90 | 3,600
Local budget officer | 40 | 1 | 30 | 1,200
Local WIC Agency Database Manager | 40 | 1 | 30 | 1,200
Peer Counselors | 80 | 1 | 30 | 2,400
Local WIC Clinic Director or Supervisor | 20 | 1 | 60 | 1,200
Local WIC Clinic Peer Counselor Coordinator or Supervisor | 20 | 1 | 60 | 1,200
Peer Counselors | 40 | 1 | 30 | 1,200
Liaison/contact person in an organization collaborating with WIC local agencies on peer counseling | 40 | 1 | 60 | 2,400
Total Respondent Burden |  |  |  | 29,700

Number of Responses per Respondent: Each instrument will be administered once to each respondent.

Estimated Total Annual Burden on Respondents: 495 hours

Estimated Time per Response: 0.80 of an hour or 48 minutes

Dated: September 11, 2007.
Roberto Salazar,
Administrator, Food and Nutrition Service.

[FR Doc. E7-18700 Filed 9-20-07; 8:45 am]

BILLING CODE 3410-30-P